DEPARTMENT OF THE INTERIOR

Fish and Wildlife Service

50 CFR Part 17

RIN 1018-AG12

Endangered and Threatened Wildlife and Plants; Reopening of Public Comment Period and Notice of Availability of Draft Economic Analysis for Proposed Critical Habitat Determination for the Zapata Bladderpod.

AGENCY: Fish and Wildlife Service, Interior.

ACTION: Proposed Rule; Extension of public comment period and notice of availability of draft economic analysis.

SUMMARY: We, the U.S. Fish and Wildlife Service, announce the availability of the draft economic analysis for the proposed designation of critical habitat for the Zapata bladderpod (Lesquerella thamnophila).

We also provide notice that the public comment period for the proposal is reopened to allow all interested parties to submit written comments on the proposal and the draft economic analysis. Comments submitted during the previous comment period need not be resubmitted as they will be incorporated into the public record and will be fully considered in the final determination on the proposal.

DATES: The original comment period closed on September 18, 2000. The comment period is hereby reopened and now closes on November 2, 2000. Comments from all interested parties must be received by the closing date. Any comments that are received after the closing date may not be considered in the final decision on this proposal.

ADDRESSES: Copies of the draft economic analysis are available on the Internet at http://ifw2es.fws.gov/library/ or by writing to the Field Supervisor, Ecological Services Field Office, c/o TAMUCC, Box 338, 6300 Ocean Drive, Corpus Christi, Texas 78412, or facsimile 1-361-994-8262. All written comments should be submitted to the Field Supervisor at the above address. Comments and materials received will be available for public inspection, by appointment, during normal business hours at the above address.

FOR FURTHER INFORMATION CONTACT: Loretta Pressly, Fish and Wildlife Biologist, at the above address (telephone 1-361-994-9005).

SUPPLEMENTARY INFORMATION:

Background

The Zapata bladderpod was listed as an endangered species on December 22, 1999. The Zapata bladderpod is a perennial plant that grows opportunistically; that is, the density of Zapata bladderpod plants and the sizes of populations fluctuate in response to rainfall. They are cryptic plants, which show little vegetative growth during drought conditions, hampering survey efforts for additional populations. All known populations of the Zapata bladderpod occur on graveled to sandy-loam upland terraces above the Rio Grande floodplain in South Texas.

Critical habitat was proposed on July 19, 2000. Of the ten populations of Zapata bladderpod that have been located, only three populations are still known to display live plants. The introduction of non-native species such as pasture grass, overgrazing, urban development, and oil and gas production activities have all contributed to the decline of the plant.

Ten areas of critical habitat are being proposed for the Zapata bladderpod. Seven Lower Rio Grande Valley National Wildlife Refuge tracts in Starr County are proposed, as well as one private land site also in Starr County. Two sites along the Texas Department of Transportation's Highway 83 right-of-way in Zapata County are being proposed as critical habitat. Altogether 5,330 acres of land are being proposed for critical habitat.

Section 4(b)(2) of the Act requires that we designate or revise critical habitat based upon the best scientific and commercial data available and after taking into consideration the economic impact, and any other relevant impact, of specifying any particular area as critical habitat. We may exclude an area from critical habitat if we determine that the benefits of excluding the area outweigh the benefits of including the area as critical habitat, provided such exclusion will not result in the extinction of the species. Consequently, we have prepared a draft economic analysis concerning the proposed critical habitat designation, which is available for review and comment at the above Internet and mailing addresses.

Public Comments Solicited

We solicit comments on the draft economic analysis described in this notice, as well as any other aspect of the proposed designation of critical habitat for the Zapata bladderpod. Our final determination on the proposed critical habitat will take into consideration comments and any additional information received by the date specified above. All previous comments and information submitted during the comment period need not be resubmitted. The comment period is extended to November 2, 2000. Written comments may be submitted to the Field Supervisor at the above address.

Author

The primary author of this notice is Loretta Pressly, U.S. Fish and Wildlife Service (see ADDRESSES).

Authority: The authority for this action is the Endangered Species Act of 1973 (16 U.S.C. 1531 et seq.).

Renne Lohoefener,
Acting Regional Director, Region 2, Fish and Wildlife Service.

[FR Doc. 00-25323 Filed 10-2-00; 8:45 am]

BILLING CODE 4310-55-P